DEPARTMENT OF AGRICULTURE

Agricultural Marketing Service

[Doc No. AMS-FGIS-20-0065]

United States Standards for Beans

AGENCY: Agricultural Marketing Service, USDA.

ACTION: Notice and request for comments.

SUMMARY: The United States Department of Agriculture's (USDA) Agricultural Marketing Service (AMS) is proposing a revision to the method of interpretation for determining “sample grade criteria,” in the Bean Inspection Handbook, as it pertains to the class “Blackeye beans,” in the U.S. Standards for Beans under the United States Agricultural Marketing Act (AMA). Stakeholders in the dry bean processing/handling industry requested that AMS amend the definition of sample grade in the Blackeye bean inspection instructions by revising the unit of measurement for the factor Insect Webbing or Filth and removing clean-cut weevil-bore as a sample grade factor. Clean-cut weevil-bore will be considered a damage factor only. To ensure that the Blackeye bean class standard remains relevant, AMS invites interested parties to comment on whether revising the inspection instructions facilitate the marketing of Blackeye beans. This action does not revise or amend the Grade and Grade Requirements for the class Blackeye Beans in the U.S. Standard for Beans.

DATES: We will consider comments we receive by October 29, 2020.

ADDRESSES: Submit comments or notice of intent to submit comments by any of the following methods:

To submit Comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

FOR FURTHER INFORMATION CONTACT: Loren Almond, USDA AMS; Telephone: (816) 891-0422; Email: Loren.L.Almond@ams.usda.gov.

SUPPLEMENTARY INFORMATION: Under the authority of the AMA (7 U.S.C. 1621-1627), as amended, AMS establishes and maintains a variety of quality and grade standards for agricultural commodities that serve as a fundamental starting point to define commodity quality in the domestic and global marketplace.

Standards developed under the AMA include those for rice, whole dry peas, split peas, feed peas, lentils, and beans. The U.S. standards for whole dry peas, split peas, feed peas, lentils and beans no longer appear in the Code of Federal Regulations but are now maintained by USDA-AMS-Federal Grain Inspection Service. The U.S. standards for beans are voluntary and widely used in private contracts, government procurement, marketing communication, and for some commodities, consumer information.

The bean standards facilitate bean marketing and define U.S. bean quality in the domestic and global marketplace. The standards define commonly used industry terms; contain basic principles governing the application of standards such as the type of sample used for a particular quality analysis; the basis of determination; and specify grades and grade requirements. Official procedures for determining grading factors are provided in the Bean Inspection Handbook. Together, the grading standards and testing procedures allow buyers and sellers to communicate quality requirements, compare bean quality using equivalent forms of measurement, and assist in price discovery.

AMS engages in outreach with stakeholders to ensure commodity standards maintain relevance to the modern market. Stakeholders including the U.S. Dry Bean Council (USDBC); California Dry Bean Advisory Board; California Bean Shippers Association; and Cal Bean and Grain requested AMS to revise the sample grade tolerance for Insect Webbing or Filth (IWOF), only in the class Blackeye beans, to align with the CODEX Standard for Certain Pulses (CODEX Standard 171-1989). The current sample grade tolerances for IWOF in all classes of beans are determined on a count basis of two or more beans in 1,000 grams. AMS-FGIS proposes to revise the Blackeye bean inspection criteria by amending the Bean Inspection Handbook to change the sample grade tolerance for IWOF in the Blackeye bean class only, from a count of two or more beans in 1,000 grams, to more than 0.10 percent on the basis of the representative sample as a whole, and remove clean-cut weevil-bore as a sample grade factor.

Blackeye Bean Sample Grade Tolerances for Insect Webbing or Filth

Representatives of dry bean industry stakeholders contacted AMS-FGIS to discuss ongoing issues with Blackeye beans, which grow predominately in California and Texas. The bean stakeholders told AMS the type of insect filth found in the Blackeye bean is not due to storage practices, but originates in the field, brought on by years of drought, and is the result of challenges associated with applying aerial pesticides. These elements have contributed to an increase of IWOF (beans and pieces of beans which contain webbing, refuse, excreta, dead insects, larvae, or eggs) in the Blackeye bean crops for years. With the current sample grade factor tolerance, difficulty in meeting contract specifications is problematic. During meetings and discussions, bean stakeholders communicated the need to revise the Bean Inspection Handbook by changing Blackeye bean sample grade tolerances for IWOF from count to percent. This would assist in moving the U.S. Blackeye bean market towards fewer quality complaints. The current sample grade tolerances for IWOF in all classes of beans are determined on a count basis of two or more beans in 1,000 grams. This change will increase the actual count to at least three beans, and in some cases possibly four beans, depending on the variety size. These changes were recommended to AMS by the stakeholder organizations identified in the background section of this notice to facilitate the current marketing practices. AMS views this action as noncontroversial and anticipates no adverse public comment.

Removing Clean Cut Weevil Bore as a Sample Grade Factor

Dry bean representatives also discussed issues with the Blackeye bean determination of clean-cut weevil-bore (CCWB) beans as a sample grade factor. Currently, two or more clean-cut weevil-bored (beans and pieces of beans from which weevils have emerged, leaving a clean-cut open cavity free from any webbing, refuse, excreta, dead insect, larvae, or eggs) are considered sample grade/weevily in 1,000 grams. AMS proposes to remove clean-cut weevil-bored as a sample grade criteria. This results in clean-cut weevil-bored beans considered only for damage and removes the weevily and sample grade determination based on the count of clean-cut weevil-bored beans for blackeye beans.

AMS grading and inspection services are provided through a network of federal, state, and private laboratories that conduct tests to determine the quality and condition of Blackeye beans. These tests are conducted in accordance with applicable standards using approved methodologies and can be applied at any point in the marketing chain. Furthermore, the tests yield rapid, reliable, and consistent results. The U.S. Standards for Beans and the affiliated grading and testing services offered by AMS verify that a seller's Blackeye beans meet specified requirements and ensure that customers receive the quality purchased.

In order for U.S. standards and grading procedures for Blackeye beans to remain relevant, AMS is issuing this request for information to invite interested parties to submit comments on the proposal to amend the sample grade interpretation for the class Blackeye beans. These changes do not revise or amend the Grade and Grade Requirements for the class Blackeye Beans in the U.S. Standard for Beans.

Proposed AMS Action

Based on input from stakeholder organizations in the Blackeye bean industry, AMS proposes to amend the Bean Inspection Handbook by revising the sample grade tolerances for Blackeye beans such that clean cut weevil bore is no longer a sample grade determining factor, and changing the Insect Webbing or Filth determination from a count to a percent basis.

AMS will solicit comments for 30 days. All comments received within the comment period will be made part of the public record maintained by AMS, will be available to the public for review, and will be considered by AMS before a final action is taken on this proposal.

Authority: 7 U.S.C. 1621-1627.

Bruce Summers,
Administrator, Agricultural Marketing Service.

[FR Doc. 2020-21436 Filed 9-28-20; 8:45 am]

BILLING CODE P